INTERNATIONAL TRADE COMMISSION

[Investigation No. 332-552]

Overview of Cuban Imports of Goods and Services and Effects of U.S. Restrictions

AGENCY: United States International Trade Commission.

ACTION: Rescheduling of public hearing.

SUMMARY: The Commission has rescheduled the public hearing in this investigation from March 24, 2015 to June 2, 2015.

DATES:

May 18, 2015: Deadline for filing requests to appear at the public hearing.

May 20, 2015: Deadline for filing pre-hearing briefs and statements.

June 2, 2015: Public hearing.

June 9, 2015: Deadline for filing post-hearing briefs and statements.

June 19, 2015: Deadline for filing all other written submissions.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project Leader Heidi Colby-Oizumi (202-205-3391; heidi.colby@usitc.gov) or Deputy Project Leader Alissa Tafti (202-205-3244; alissa.tafti@usitc.gov). For information on legal aspects, contact William Gearhart of the Office of the General Counsel (202-205-3091; william.gearhart@usitc.gov). The media should contact Margaret O'Laughlin, Office of External Relations (202-205-1819; margaret.olaughlin@usitc.gov). General information concerning the Commission may also be obtained by accessing its Internet address (http://www.usitc.gov). Hearing impaired individuals may obtain information on this matter by contacting the Commission's TDD terminal at 202-205-1810. Persons with mobility impairments who will need special assistance in gaining access to the Commission should contact the Office of the Secretary at 202-205-2000.

SUMMARY: As announced in the notice of institution of the investigation published in the Federal Register on February 4, 2015 (80 FR 6137), the hearing will be held at the U.S. International Trade Commission building, 500 E Street SW., Washington, DC, 20436; it will begin at 9:30 a.m. In addition to the hearing date, the deadline dates for filing of requests to appear and pre-hearing and post-hearing briefs and statements have been changed: the deadline for filing requests to appear at the hearing has been changed to May 18, 2015; the deadline for filing pre-hearing briefs and statements has been changed to May 20, 2015; the deadline for filing post-hearing briefs and statements has been changed to June 9, 2015; and the deadline for filing all other written submissions has been changed to June 19, 2015. All other requirements and procedures set out in the February 4, 2015, notice continue to apply.

In the event that, as of the close of business on May 18, 2015, no witnesses are scheduled to appear at the hearing, the hearing will be canceled. Any person interested in attending the hearing as an observer or nonparticipant may call the Secretary to the Commission (202-205-2000) after May 18, 2015 for information concerning whether the hearing will be held.

By order of the Commission.
Issued: February 27, 2015.
William R. Bishop,
Supervisory Hearings and Information Officer.

[FR Doc. 2015-04477 Filed 3-3-15; 8:45 am]

BILLING CODE 7020-02-P